DEPARTMENT OF COMMERCE

International Trade Administration

A-570-831

Fresh Garlic From the People's Republic of China; Initiation of New Shipper Reviews

AGENCY: Import Administration, International Trade Administration, Department of Commerce.

EFFECTIVE DATE: December 28, 2005.

SUMMARY: The Department of Commerce (the “Department”) has determined that requests for new shipper reviews of the antidumping duty order on fresh garlic from the People's Republic of China (“PRC”), received in September and November 2005, meet the statutory and regulatory requirements for initiation. The period of review (“POR”) of these new shipper reviews is November 1, 2004, through October 31, 2005.

FOR FURTHER INFORMATION CONTACT: Ryan A. Douglas or Jim Nunno, AD/CVD Operations, Office 8, Import Administration, International Trade Administration, U.S. Department of Commerce, 14th Street and Constitution Avenue, NW, Washington, DC 20230; telephone: (202) 482-1277 and (202) 482-0783, respectively.

SUPPLEMENTARY INFORMATION:

Background

The notice announcing the antidumping duty order on fresh garlic from the PRC was published on November 16, 1994. See Antidumping Duty Order: Fresh Garlic From the People's Republic of China, 59 FR 59209 (November 16, 1994). The Department received five timely requests for a new shipper review in accordance with 19 CFR 351.214(d)(1), dated as follows:

Date | Requester
September 30, 2005 | Qingdao Camel Trading Co., Ltd.(“Qingdao Camel”)
November 2, 2005 | Qingdao Xintianfeng Foods Co., Ltd.(“Qingdao Xintianfeng”)
November 15, 2005 | XuZhou Simple Garlic Industry Co., Ltd.(“XuZhou Simple”)
November 29, 2005 | Qingdao Saturn International Trade Co., Ltd.(“Qingdao Saturn”)
November 30, 2005 | Shandong Longtai Fruits and Vegetables Co., Ltd. (“Longtai”)

Qingdao Xintianfeng, XuZhou Simple, and Longtai certified that they grew and exported the garlic on which they based their requests for a new shipper review. Qingdao Camel certified that Jinxiang County Lufeng Agricultural Production Material Co., Ltd. (“Lufeng”) grew the subject merchandise it exported. Qingdao Saturn certified that Changshan County Taifeng Agricultural By-Products Processing Co., Ltd. (“Taifeng”) grew the subject merchandise that it exported.

Initiation of New Shipper Reviews

Pursuant to section 751(a)(2)(B)(i)(I) of the Tariff Act of 1930, as amended (“the Act”) and 19 CFR 351.214(b)(2), Qingdao Camel, Qingdao Saturn, Qingdao Xiantianfeng, Longtai, and XuZhou Simple certified that they did not export fresh garlic to the United States during the period of investigation (“POI”). In addition, Lufang and Taifeng, producers of the subject merchandise, exported by Qingdao Camel and Qingdao Saturn, respectively, provided certifications that they did not export the subject merchandise to the United States during the POI, pursuant to section 751(a)(2)(B)(i)(I) of the Act and 19 CFR 351.214(b)(2)(ii)(B). Pursuant to section 751(a)(2)(B)(i)(II) and 19 CFR 351.214(b)(2)(iii)(A), all companies discussed above certified that, since the initiation of the investigation, they have never been affiliated with any exporter or grower who exported fresh garlic to the United States during the POI, including those not individually examined during the investigation. As required by 19 CFR 351.214(b)(2)(iii)(B), these companies also certified that their export activities are not controlled by the central government of the PRC.

In addition to the certifications described above, each exporter submitted documentation establishing the following: (1) the date on which it first shipped fresh garlic for export to the United States and the date on which the fresh garlic was first entered, or withdrawn from warehouse, for consumption; (2) the volume of its first shipment and the volume of subsequent shipments; and (3) the date of its first sale to an unaffiliated customer in the United States.

Pursuant to section 751(a)(2)(B) of the Act and 19 CFR 351.214(d)(1), we are initiating five new shipper reviews for shipments of fresh garlic from the PRC:

(1) grown by Lufeng and exported by Qingdao Camel,

(2) grown by Taifeng and exported by Qingdao Saturn,

(3) grown and exported by Qingdao Xiantianfeng,

(4) grown and exported by XuZhou Simple, and

(5) grown and exported by Longtai.

See Memoranda to the File titled, “New Shipper Initiation Checklist” for Qingdao Camel, Qingdao Saturn, Qingdao Xiantianfeng, Longtai, and XuZhou Simple, dated December 20, 2005.

The POR is November 1, 2004, through October 31, 2005. See 19 CFR 351.214(g)(1)(i)(A). We intend to issue preliminary results of these reviews no later than 180 days from the date of initiation, and final results of these reviews no later than 270 days from the date of initiation. See section 751(a)(2)(B)(iv) of the Act.

Because Qingdao Xiantianfeng, Longtai, and XuZhou Simple have certified that they grew and exported the fresh garlic on which they based their requests for a new shipper review, we will instruct U.S. Customs and Border Protection (“CBP”) to allow, at the option of the importer, the posting of a bond or security in lieu of a cash deposit for each entry of fresh garlic both grown and exported by Qingdao Xiantianfeng, Longtai, and XuZhou Simple, respectively, until the completion of the new shipper review, pursuant to section 751(a)(2)(B)(iii) of the Act.

With respect to Qingdao Camel and Qingdao Saturn, they have certified that they exported, but did not grow, the subject merchandise on which they based their requests for a new shipper review. Therefore, until completion of these new shipper reviews, we will instruct CBP to allow, at the option of the importer, the posting of a bond or security in lieu of a cash deposit for entries of subject merchandise (1) grown by Lufeng and exported by Qingdao Camel, or (2) grown by Taifeng and exported by Qingdao Saturn. Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: December 20, 2005.
Stephen J. Claeys,
Acting Assistant Secretary for Import Administration.

[FR Doc. E5-7882 Filed 12-27-05; 8:45 am]

BILLING CODE 3510-DS-S